DEPARTMENT OF LABOR

Employment and Training Administration

[NAFTA-3570]

The William Carter Co., Brownsville, TX; Notice of Termination of Investigation

Pursuant to Section 250 of the Trade Act of 1974, an investigation was initiated on November 18, 1999, in response to a worker petition filed on the same date on behalf of workers at The William Carter Co., Brownsville, Texas.

A certification applicable to this group of workers was issued on December 16, 1999, and is currently in effect (NAFTA-3588). That certification is currently being amended to include “Employees of William Carter Co., employed at Williams Cutting Service.” Consequently, further investigation in this case would serve no purpose, and the investigation has been terminated.

Signed in Washington, D.C. this 22nd day of February 2000.
Grant D. Beale,
Program Manager, Division of Trade Adjustment Assistance.

[FR Doc. 00-6375 Filed 3-14-00; 8:45 am]

BILLING CODE 4510-30-M